FEDERAL COMMUNICATIONS COMMISSION

47 CFR Part 64

[CC Docket Nos. 90-571 and 98-67; FCC 04-137]

Telecommunications Relay Services and Speech-to-Speech Services for Individuals With Hearing and Speech Disabilities; Correction

AGENCY: Federal Communications Commission.

ACTION: Final rule; correction.

SUMMARY: On September 1, 2004 (69 FR 53346), the Commission published final rules in the Federal Register, which addressed cost recovery and other matters relating to the provision of telecommunications relay services (TRS) pursuant to Title IV of the Americans with Disabilities Act of 1990 (ADA). This document corrects § 64.604 (a)(4).

DATES: Effective October 1, 2004 except for the amendment to § 64.604 (a)(4) of the Commission's rules, which contains information collection requirements under the Paperwork Reduction Act (PRA) that are not effective until approved by Office of Management and Budget (OMB). Written comments by the public on the new and modified information collections are due November 1, 2004. The Commission will publish a document in the Federal Register announcing the effective date for that section.

FOR FURTHER INFORMATION CONTACT: Cheryl King, of the Consumer & Governmental Affairs Bureau at (202) 418-2284 (voice), (202) 418-0416 (TTY), or e-mail cheryl.king@fcc.gov.

SUPPLEMENTARY INFORMATION: The Federal Communications Commission published a document amending part 64 in the Federal Register of September 1, 2004 (69 FR 53346). This document corrects the “Rule Changes” section of the Federal Register summary as it appeared. In rule FR Doc. 04-19955 published on September 1, 2004 (69 FR 53346), make the following correction:

PART 64—[CORRECTED]

On page 53351, in the third column, “§ 64.604(a)(4)” is corrected to read as follows:

§ 64.604 Mandatory minimum standards.

* * * * *

(a) * * *

(4) Handling of emergency calls. Providers must use a system for incoming emergency calls that, at a minimum, automatically and immediately transfers the caller to an appropriate Public Safety Answering Point (PSAP). An appropriate PSAP is either a PSAP that the caller would have reached if he had dialed 911 directly, or a PSAP that is capable of enabling the dispatch of emergency services to the caller in an expeditious manner.

* * * * *

Federal Communications Commission.
Marlene H. Dortch,
Secretary.

[FR Doc. 04-21006 Filed 9-16-04; 8:45 am]

BILLING CODE 6712-01-P